Title 3—

The President

Proclamation 8141 of May 9, 2007

Military Spouse Day, 2007

By the President of the United States of America

A Proclamation

America's military spouses inspire our Nation with their sense of duty and deep devotion to our country. On Military Spouse Day, we honor the husbands and wives of those who wear the uniform of the Armed Forces of the United States.

The husbands and wives of our service members have made significant sacrifices for freedom's cause, and they are an integral part of the success of our Armed Forces. Spouses may endure long periods of separation and frequent relocations, and they often set aside their own personal and professional ambitions for the benefit of their family and the Nation. Despite tremendous personal challenges, military spouses maintain everyday life for their families here at home, while sending love, prayers, encouraging words, and care packages to their loved ones stationed around the globe.

On behalf of a grateful Nation, we salute our Nation's military spouses. For ways to support our troops, their spouses, and their families, visit americasupportsyou.mil.

NOW, THEREFORE, I, GEORGE W. BUSH, President of the United States of America, by virtue of the authority vested in me by the Constitution and laws of the United States, do hereby proclaim May 11, 2007, as Military Spouse Day. I call upon the people of the United States to observe this day with appropriate ceremonies and activities and by expressing their gratitude to the husbands and wives of those serving in the United States Armed Forces.

IN WITNESS WHEREOF, I have hereunto set my hand this ninth day of May, in the year of our Lord two thousand seven, and of the Independence of the United States of America the two hundred and thirty-first.

[FR Doc. 07-2398

Filed 5-11-07; 9:16 am]

Billing code 3195-01-P